DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

City of Suffolk, Virginia

[Waiver Petition Docket Number FRA-2008-0087]

The City of Suffolk, Virginia (City), seeks a permanent waiver of compliance from certain provisions of the Use of Locomotive Horns at Highway-Rail Grade Crossings, 49 CFR part 222. The City intends to establish a Pre-Rule Quiet Zone that it had previously continued under the provisions of 49 CFR part 222.41(c)(1). The City is seeking a waiver to extend: (1) The mailing date for a Notice of Intent as provided in 49 CFR Part 222.41(c)(2)(i)(A) that states that the Notice of Intent must be mailed by February 24, 2008; and (2) the filing date for a Detailed Plan as provided in 49 CFR part 222.41(c)(2)(i)(B) that states that the Detailed Plan must be filed with FRA by June 24, 2008.

The City states that its failure to meet the required deadlines was a direct result of its inexperience with the FRA's policies and procedures. The City has dedicated staff to ensure that this oversight will not occur again.

The City states that it is attempting to determine required modifications and make the necessary modifications to the crossing in question to continue the existing locomotive horn sounding restrictions. The City anticipates a cost of $300,000 to $500,000, to make the necessary upgrades in order to be in compliance with FRA regulations.

The City states that it is currently negotiating with the Norfolk Southern Railway Company (NS) to garner its support for the waiver. The City also states that NS will notify FRA if it has an objection. The City decided to file the petition alone in order to expedite the process, and that a joint submission by the City and railroad is not likely to significantly contribute to public safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0087) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on December 23, 2008.
Grady C. Cothen, Jr.,
Deputy Associate Administrator for Safety Standards and Program Development.

[FR Doc. E8-31180 Filed 12-30-08; 8:45 am]

BILLING CODE 4910-06-P